FEDERAL COMMUNICATIONS COMMISSION

47 CFR Parts 2 and 25

[IB Docket No. 02-364; DA 03-2229]

Review of the Spectrum Sharing Plan Among Non-Geostationary Satellite Orbit Mobile Satellite Service Systems in the 1.6/2.4 GHz Bands

AGENCY: Federal Communications Commission.

ACTION: Proposed rule; denial of extension of comment period.

SUMMARY: On February 5, 2003, the Federal Communications Commission released an order and notice of proposed rulemaking seeking comment on the possibility of revising the spectrum sharing plan among non-geostationary satellite orbit mobile satellite service systems operating in the 1.6/2.4 GHz bands. In this action, the Federal Communications Commission denies a request to extend the deadline by two months for filing comments in this rulemaking proceeding. Nevertheless, because of the operation of § 1.46 of the Federal Communications Commission's rules, which automatically extends the time for filing comments until two business days after the Commission denies a timely-filed motion for extension of time, the Commission adjusts the comment date and reply comment date to provide clarity to the parties and to provide a full two weeks between the time for filing comments and the time for filing reply comments.

DATES: Comments were due on or before July 11, 2003. Reply Comments were due on or before July 25, 2003.

ADDRESSES: Federal Communications Commission, Office of the Secretary, 445 12th Street, SW., Washington, DC 20554. See Supplementary Information for filing instructions.

FOR FURTHER INFORMATION CONTACT: James Ball, Chief, or Breck Blalock, Deputy Chief, Policy Division, International Bureau, (202) 418-1460.

SUPPLEMENTARY INFORMATION: 1. On February 5, 2003, the Federal Communications Commission released an order and notice of proposed rulemaking (Notice) among other things seeking comment on the possibility of revising the spectrum sharing plan among non-geostationary satellite orbit mobile satellite service systems operating in the 1.6/2.4 GHz bands. (See 68 FR 33666, June 5, 2003). On June 30, 2003, Globalstar L.P. (GLP or Globalstar) filed a request for extension of time (GLP Request) requesting the Commission to extend the comment and reply comment filing deadlines in this proceeding for two months to September 8, 2003, and September 29, 2003, respectively. ICO Global Communications (Holdings) Limited (ICO) and The Official Creditors' Committee of Globalstar, L.P. (the Creditors) each filed documents in support of GLP's request. Iridium Satellite LLC (Iridium) filed in opposition to GLP's request.

2. GLP asserts that two events have occurred since release of the Notice in this proceeding that warrant grant of an extension of time. First, GLP states that it has filed an emergency application for review and request for stay of an International Bureau order canceling GLP's 2 GHz MSS license. According to GLP, a Commission decision regarding whether to revise the Big LEO band plan and to assign more or less spectrum to Globalstar and Iridium or to reallocate some Big LEO spectrum to another service must necessarily be affected by the amount of second generation spectrum, if any, that is available to GLP in the 2 GHz MSS band. Second, GLP states that the U.S. Bankruptcy Court for the District of Delaware has approved an investment transaction pursuant to which GLP's assets will be transferred to a company controlled by ICO. According to GLP, ICO's interests as the proposed new owner of the Globalstar system cannot be taken into account in this proceeding until the applications for the assignment of the Globalstar assets have been approved by the Commission.

3. We find that the public interest does not weigh in favor of a grant here. Rather, we find that extending the comment deadline would contravene the Commission's express intention to proceed expeditiously in this rulemaking proceeding. First, we do not agree that a Commission decision regarding whether to revise the Big LEO band plan must necessarily be affected by the amount of second generation spectrum available to GLP in the 2 GHz MSS band. We expect any decision the Commission may make regarding whether to revise the Big LEO band plan will be made based on the operations and use of systems in the Big LEO band. We do not believe that resolution of 2 GHz MSS licensing matters will have any bearing on whether or how the Commission may decide to alter the Big LEO band plan. In any event, it is not necessary for the Commission to reach a decision on GLP's appeal for parties to provide comments in this proceeding concerning how favorable or unfavorable Commission action with respect to GLP's appeal might affect GLP's spectrum needs in the Big LEO band.

4. Second, we do not agree that a Commission decision regarding the proposed ICO/GLP transaction is necessary for parties to comment meaningfully in this proceeding. Whether or not the Commission ultimately approves the transaction has no bearing on current operations, use, or capacity of the Globalstar Big LEO MSS system. Moreover, nothing prohibits ICO, as proposed new owners of the Globalstar Big LEO MSS system, from filing comments in this proceeding. We are not convinced that ICO requires resolution of its pending transfer and assignment applications to understand its interests and comment meaningfully in this proceeding.

5. Nevertheless, because of the operation of § 1.46 of the Commissions rules, which automatically extends the time for filing comments until two business days after the Commission denies a timely-filed motion for extension of time, we adjusted the comment date to July 11, 2003. Also, to provide parties a full two weeks to respond to comments filed in this proceeding, we adjusted the reply comment date to July 25, 2003.

6. Accordingly, pursuant to § 1.46 of the Commission's rules, 47 CFR 1.46, the new comment due date was July 11, 2003 and the new reply comment due date was July 25, 2003. Instructions for filing pleadings in this proceeding are set forth in the NPRM, available on the Commission's Web site at http://www.fcc.gov. All comments and reply comments will be available for public inspection during regular business hours in the FCC Reference Information Center, Room CY-A257, 445 Twelfth Street SW., Washington, DC 20554.

Federal Communications Commission.
James Ball,
Chief, Policy Division, International Bureau.

[FR Doc. 03-20787 Filed 8-15-03; 8:45 am]

BILLING CODE 6712-01-P